DEPARTMENT OF ENERGY

Federal Energy Regulatory Commission

[Docket No. EG05-38-000, et al.]

Breezy Bucks—I LLC, et al.; Electric Rate and Corporate Filings

February 14, 2005.

The following filings have been made with the Commission. The filings are listed in ascending order within each docket classification.

1. Breezy Bucks—I LLC

[Docket No. EG05-38-000]

Take notice that on February 10, 2005, Breezy Bucks—I LLC (LLC), 1631 290th Avenue, Tyler, MN 56178 (Applicant) filed with the Federal Energy Regulatory Commission an application for determination of exempt wholesale generator status pursuant to part 365 of the Commission's regulations.

The Applicant states that it will own and operate a 1.65 megawatt wind powered electric generation facility (the Facility) in Drammen Township, Lincoln County, Minnesota. The Applicant further states that it will sell the electric output of the Facility exclusively at wholesale to Xcel Energy (Xcel) pursuant to a Wind Generation Purchase Agreement with Xcel. The Applicant explains that the Facility will be located in proximity to the transmission facilities of Xcel in Minnesota, and the Facility will include only those interconnecting transmission facilities necessary to effect sales of electric energy at wholesale.

Comment Date: 5 p.m. Eastern Time on March 3, 2005.

2. Breezy Bucks—II LLC

[Docket No. EG05-39-000]

Take notice that on February 10, 2005, Breezy Bucks—II LLC (LLC), 1631—290th Avenue, Tyler, MN 56178 (Applicant) filed with the Federal Energy Regulatory Commission an application for determination of exempt wholesale generator status pursuant to part 365 of the Commission's regulations.

The Applicant states it will own and operate a 1.65 megawatt wind powered electric generation facility (the Facility) in Drammen Township, Lincoln County, Minnesota. The Applicant states that it will sell the electric output of the Facility exclusively at wholesale to Xcel Energy (Xcel) pursuant to a Wind Generation Purchase Agreement with Xcel. The Applicant further states that the Facility will be located in proximity to the transmission facilities of Xcel in Minnesota, and the Facility will include only those interconnecting transmission facilities necessary to effect sales of electric energy at wholesale.

Comment Date: 5 p.m. Eastern Time on March 3, 2005.

3. Salty Dog—I LLC

[Docket No. EG05-40-000]

Take notice that on February 10, 2005, Salty Dog—I LLC (LLC), 1756 County Highway 7, Tyler, MN 56178 (Applicant) filed with the Federal Energy Regulatory Commission an application for determination of exempt wholesale generator status pursuant to part 365 of the Commission's regulations.

The Applicant states that it will own and operate a 1.65 megawatt wind powered electric generation facility (the Facility) in Drammen Township, Lincoln County, Minnesota. The Applicant states that it will sell the electric output of the Facility exclusively at wholesale to Xcel Energy (Xcel) pursuant to a Wind Generation Purchase Agreement with Xcel. The Applicant explains that the Facility will be located in proximity to the transmission facilities of Xcel in Minnesota, and the Facility will include only those interconnecting transmission facilities necessary to effect sales of electric energy at wholesale.

Comment Date: 5 p.m. Eastern Time on March 3, 2005.

4. Salty Dog—II LLC

[Docket No. EG05-41-000]

Take notice that on February 10, 2005, Salty Dog—II LLC (LLC), 1756 County Highway 7, Tyler, MN 56178 (Applicant), filed with the Federal Energy Regulatory Commission an application for determination of exempt wholesale generator status pursuant to part 365 of the Commission's regulations.

The Applicant states that it will own and operate a 1.65 megawatt wind powered electric generation facility (the Facility) in Drammen Township, Lincoln County, Minnesota. The Applicant further states that it will sell the electric output of the Facility exclusively at wholesale to Xcel Energy (Xcel) pursuant to a Wind Generation Purchase Agreement with Xcel. The Applicant explains that the Facility will be located in proximity to the transmission facilities of Xcel in Minnesota, and the Facility will include only those interconnecting transmission facilities necessary to effect sales of electric energy at wholesale.

Comment Date: 5 p.m. Eastern Time on March 3, 2005.

5. Roadrunner—I LLC

[Docket No. EG05-42-000]

Take notice that on February 10, 2005, Roadrunner—I LLC (LLC), 23504 631st Avenue, Gibbon, MN 55335 (Applicant) filed with the Federal Energy Regulatory Commission an application for determination of exempt wholesale generator status pursuant to part 365 of the Commission's regulations.

The Applicant states that it will own and operate a 1.65 megawatt wind powered electric generation facility (the Facility) in Drammen Township, Lincoln County, Minnesota. The Applicant further states that it will sell the electric output of the Facility exclusively at wholesale to Xcel Energy (Xcel) pursuant to a Wind Generation Purchase Agreement with Xcel. The Applicant explains that the Facility will be located in proximity to the transmission facilities of Xcel in Minnesota, and the Facility will include only those interconnecting transmission facilities necessary to effect sales of electric energy at wholesale.

Comment Date: 5 p.m. Eastern Time on March 3, 2005.

6. Windy Dog—I LLC

[Docket No. EG05-43-000]

Take notice that on February 10, 2005, Windy Dog—I LLC, 59293 226th Street, Gibbon, MN 55335 (Applicant) filed with the Federal Energy Regulatory Commission an application for determination of exempt wholesale generator status pursuant to part 365 of the Commission's regulations.

The Applicant states it will own and operate a 1.65 megawatt wind powered electric generation facility (the Facility) in Drammen Township, Lincoln County, Minnesota. The Applicant further states it will sell the electric output of the Facility exclusively at wholesale to Xcel Energy pursuant to a Wind Generation Purchase Agreement with Xcel. The Applicant explains that the Facility will be located in proximity to the transmission facilities of Xcel in Minnesota, and the Facility will include only those interconnecting transmission facilities necessary to effect sales of electric energy at wholesale.

Comment Date: 5 p.m. Eastern Time on March 3, 2005.

7. Wally's Wind Farm LLC

[Docket No. EG05-44-000]

Take notice that on February 10, 2005, Wally's Wind Farm, 242 E. 12th Street, P.O. Box 317, Gibbon, MN 55335, (Applicant) filed with the Federal Energy Regulatory Commission an application for determination of exempt wholesale generator status pursuant to part 365 of the Commission's regulations.

The Applicant states that it will own and operate a 1.65 megawatt wind powered electric generation facility (the Facility) in Drammen Township, Lincoln County, Minnesota. The Applicant further states that it will sell the electric output of the Facility exclusively at wholesale to Xcel Energy pursuant to a Wind Generation Purchase Agreement with Xcel. The Applicant explains that the Facility will be located in proximity to the transmission facilities of Xcel in Minnesota, and the Facility will include only those interconnecting transmission facilities necessary to effect sales of electric energy at wholesale.

Comment Date: 5 p.m. Eastern Time on March 3, 2005.

8. Ramco Generating One, Inc.

[Docket No. EG05-45-000]

On February 10, 2005, Ramco Generating One, Inc. (the “Applicant”), a California corporation with its principal place of business at 6362 Ferris Square, Suite C, San Diego, California, filed with the Federal Energy Regulatory Commission an application for determination of exempt wholesale generator status pursuant to part 365 of the Commission's regulations.

The Applicant states that it is constructing, and will own and operate, a natural gas-fired, simple cycle power plant to be located in San Diego, California. The Applicant further states that the power plant will ultimately have a nominally rated generating capacity of approximately 46 MW and is expected to commence operation on or about April 15, 2005. Applicant states that all electric energy from the power plant will be sold exclusively at wholesale.

The Applicant states that it has served a copy of the filing on the U.S. Securities and Exchange Commission and the California Public Utilities Commission.

Comment Date: 5 p.m. Eastern Time on March 3, 2005.

9. Northern Indiana Public Service Company, Energy USA—TPC Corp., Whiting Clean Energy, Inc.

[Docket Nos. ER00-2173-003, ER00-3219-003, ER01-1300-004]

Take notice that on February 8, 2005, Northern Indiana Public Service Company, EnergyUSA—TPC Corp., (NISPCO) and Whiting Clean Energy, Inc. (the NiSource Companies) tendered for filing their updated market power analysis in support of their application to continue to be permitted to sell power at market-based rates.

Comment Date: 5 p.m. Eastern Time on March 1, 2005.

10. Xcel Energy Services Inc., Northern States Power Company and Northern States Power Company (Wisconsin), Public Service Company of Colorado, Southwestern Public Service Company

[Docket Nos. ER01-205-007, ER98-4590-003, ER98-2640-005, ER99-1610-010]

Take notice that on February 8, 2005, Xcel Energy Services Inc. (XES), on behalf of itself and the Xcel Energy Operating Companies, Northern States Power Company and Northern States Power Company (Wisconsin), Public Service Company of Colorado, and Southwestern Public Service Company, filed with the Commission a market update for authorization to sell at market-based rates and various tariff amendments, pursuant to section 205 of the Federal Power Act.

Comment Date: 5 p.m. Eastern Time on March 1, 2005.

11. Backbone Mountain Windpower LLC

[Docket No. ER02-2559-003]

Take notice that on February 8, 2005, Backbone Mountain Windpower LLC submitted tariff sheets to include the market behavior rules pursuant to the Commission's order in Investigation of Terms and Conditions of Public Utility Market-Based Rate Authorizations, 105 FERC ¶ 61,277 (2003). Backbone Mountain Windpower LLC states that copies of the filing were served on parties on the official service list in the above-captioned proceeding.

Comment Date: 5 p.m. Eastern Time on March 1, 2005.

12. FPL Energy Green Power Wind, LLC

[Docket No. ER04-127-001]

Take notice that, on February 8, 2005, FPL Energy Green Power Wind, LLC submitted tariff sheets incorporating the market behavior rules adopted by the Commission in Investigation of Terms and Conditions of Public Utility Market-Based Rate Authorizations, 105 FERC ¶ 61,277 (2003).

FPL Energy Green Power Wind, LLC states that copies of the filing were served on parties on the official service list in the Docket No. ER04-127-000.

Comment Date: 5 p.m. Eastern Time on March 1, 2005.

13. New York Independent System Operator, Inc.

[Docket No. ER04-230-008]

Take notice that on February 8, 2005, New York Independent System Operator, Inc. (NYISO) submitted an amendment to its compliance filing submitted January 28, 2005 in Docket No. ER04-230-007.

Comment Date: 5 p.m. Eastern Time on March 1, 2005.

14. Southwest Power Pool, Inc.

[Docket No. ER05-156-002]

Take notice that on February 8, 2005, Southwest Power Pool, Inc. (SPP) submitted for filing a supplement to its proposed Attachment AD of its regional Open Access Transmission Tariff filed with the Commission on November 1, 2004 (November 1 Filing). In addition, SPP provided a response to the deficiency letter issued December 28, 2004, regarding the November 1 filing. SPP requests an effective date of January 1, 2005.

SPP states that it has served a copy of this filing on all parties to this proceeding, as well as upon each of its Members and Customers. SPP further states that a complete copy of this filing will be posted on the SPP Web site http://www.spp.org, and is also being served on all affected state commissions.

Comment Date: 5 p.m. Eastern Time on March 1, 2005.

15. Brownsville Power I, L.L.C.; Caledonia Power I, L.L.C.; Cinergy Capital & Trading, Inc.

[Docket Nos. ER05-263-001, ER05-264-001, ER05-265-001]

Take notice that on February 8, 2005, Brownsville Power I, L.L.C., Caledonia Power I, L.L.C., and Cinergy Capital & Trading, Inc. (together, Applicants) submitted an amendment to their November 24, 2004 filing in Docket Nos. ER05-263-000, ER05-264-000 and ER05-265-000 pursuant to the deficiency letter issued January 14, 2005.

The Applicants state that copies of the filing were served on parties on the official service list.

Comment Date: 5 p.m. Eastern Time on March 1, 2005.

16. Sempra Generation

[Docket No. ER05-440-001]

Take notice that on February 8, 2005, Sempra Generation submitted a supplement to its notice of succession filed on January 12, 2005 in Docket No. ER05-440-000 to reflect a corporate name change from Sempra Energy Resources to Sempra Generation, effective January 1, 2005.

Comment Date: 5 p.m. Eastern Time on March 1, 2005.

17. MidAmerican Energy Company

[Docket No. ER05-482-001]

Take notice that on February 8, 2005, MidAmerican Energy Company (MidAmerican), filed an amendment to its January 24, 2005 filing in Docket No. ER05-482-000 of an electric transmission interconnection agreement between MidAmerican and Corn Belt Power Cooperative.

MidAmerican states that it has served a copy of the filing on Corn Belt Power Cooperative, the Iowa Utilities Board, the Illinois Commerce Commission and the South Dakota Public Utilities Commission.

Comment Date: 5 p.m. Eastern Time on March 1, 2005.

18. Otter Tail Corporation

[Docket No. ER05-555-000]

Take notice that on February 4, 2005, Otter Tail Corporation (Otter Tail) submitted a notice of succession regarding the change of its corporate name from Otter Tail Power Company to Otter Tail Corporation.

Comment Date: 5 p.m. Eastern Time on February 25, 2005.

19. Southern Company Services, Inc.

[Docket No. ER05-561-000]

Take notice that on February 8, 2005, Southern Company Services, Inc., acting on behalf of Georgia Power Company (GPC), filed with the Commission a notice of cancellation of the interconnection agreement between Augusta Energy, LLC and GPC (Service Agreement No. 376 under Southern Companies' open access transmission tariff, Fourth Revised Volume No. 5). GPC requests an effective date of December 28, 2004.

GPC states that a copy of this filing has been sent to Augusta Energy.

Comment Date: 5 p.m. Eastern Time on March 1, 2005.

20. Southwest Power Pool, Inc.

[Docket No. ER05-562-000]

Take notice that on February 8, 2005, the Southwest Power Pool Inc. (SPP) submitted for filing Schedule 12 of its open access transmission tariff, FERC Electric Tariff, Fourth Revised Volume No. 1, in order to recover SPP's payments to the Commission of its FERC annual charges. SPP requests an effective date of March 1, 2005.

SPP states that it has served a copy of this filing, with attachments, upon all SPP members, customers, as well as all state commissions within the region. In addition, SPP states that the filing has been posted electronically on SPP's Web site at http://www.spp.org and that SPP will provide hard copies to any interested parties upon request.

Comment Date: 5 p.m. Eastern Time on March 1, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Linda Mitry,
Deputy Secretary.

[FR Doc. E5-741 Filed 2-23-05; 8:45 am]

BILLING CODE 6717-01-P